SURFACE TRANSPORTATION BOARD

[Docket No. AB 1056 (Sub-No. 1X)]

Pioneer Industrial Railway Co. LLC—Discontinuance of Trackage Rights Exemption—in Peoria County, Ill.

Pioneer Industrial Railway Co. LLC (PIRY) has filed a verified notice of exemption under 49 CFR part 1152 subpart F—Exempt Abandonments and Discontinuances of Service to discontinue trackage rights over approximately 1.07 miles of rail line located between milepost 1.71 and milepost 2.78 in the City of Peoria, Peoria County, Ill. (the Line).¹ The Line traverses U.S. Postal Service Zip Code 61603.

¹ PIRY's discontinuance of trackage rights exemption is related to a concurrently filed petition by the City of Peoria, Ill. (the City), for an exemption “permitting the City, on behalf of the no longer extant Central Illinois Railroad Company (`CIRY'), to discontinue service” over the Line. (Pet. 1, Feb. 15, 2023, City of Peoria, Ill.—Discontinuance of Serv. Exemption—in Peoria, Ill., AB 1066 (Sub-No. 3X) (footnote omitted).) In its petition, the City requests that the Board exempt both the discontinuance of service in that docket and PIRY's discontinuance of trackage rights in this docket from the Board's offer of financial assistance (OFA) provisions at 49 U.S.C. 10904. (Id. at 14-16.) In its verified notice here, PIRY states that it supports the City's request for exemption from the OFA provisions and, “to ensure uniform application of the requested exemption, PIRY hereby incorporates herein by reference the City's case for OFA relief.” (Notice 6.) PIRY's request will be addressed by separate decision.

PIRY has certified that: (1) it has moved no local traffic over the Line for at least two years; (2) because the Line is stub-ended, there is no overhead traffic on the Line to be rerouted; (3) no formal complaint filed by a user of rail service on the Line (or by a state or local government entity acting on behalf of such user) regarding cessation of service on the Line is either pending with the Surface Transportation Board or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an OFA ² to subsidize continued rail service has been received, this exemption will be effective on April 6, 2023, unless stayed pending reconsideration. Petitions to stay that do not involve environmental issues and formal expressions of intent to file an OFA to subsidize continued rail service under 49 CFR 1152.27(c)(2) ³ must be filed by March 17, 2023.⁴ Petitions to reopen must be filed by March 27, 2023.

² Persons interested in submitting an OFA to subsidize continued rail service must first file a formal expression of intent to file an offer, indicating the intent to file an OFA for subsidy and demonstrating that they are preliminarily financially responsible. See 49 CFR 1152.27(c)(2)(i).

³ The filing fee for OFAs can be found at 49 CFR 1002.2(f)(25).

⁴ Because this is a discontinuance proceeding and not an abandonment, interim trail use/rail banking and public use conditions are not appropriate. Because there will be an environmental review during abandonment, this discontinuance does not require an environmental review.

All pleadings, referring to Docket No. AB 1056 (Sub-No. 1X), must be filed with the Surface Transportation Board either via e-filing on the Board's website or in writing addressed to 395 E Street SW, Washington, DC 20423-0001. In addition, a copy of each pleading must be served on PIRY's representative, Robert A. Wimbish, Fletcher & Sippel LLC, 29 North Wacker Drive, Suite 800, Chicago, IL 60606-3208.

If the verified notice contains false or misleading information, the exemption is void ab initio.

Board decisions and notices are available at www.stb.gov.

Decided: February 28, 2023.

By the Board, Mai T. Dinh, Director, Office of Proceedings.

Aretha Laws-Byrum,
Clearance Clerk.

[FR Doc. 2023-04584 Filed 3-6-23; 8:45 am]

BILLING CODE 4915-01-P